DEPARTMENT OF ENERGY

Southeastern Power Administration

Proposed Rate Adjustment, Public Forum, and Opportunities for Public Review and Comment for Georgia-Alabama-South Carolina System of Projects

AGENCY: Southeastern Power Administration, DOE.

ACTION: Notice to change date and location of the Public Information and Comment Forum.

SUMMARY: On March 17, 2010, Southeastern Power Administration (Southeastern) published notice of proposed rate for the sale of power from the Georgia-Alabama-South Carolina System of Projects (75 FR 12740). The notice established the date and time of the Public Information and Comment Forum as 10 a.m. on April 29, 2010. The address of the forum was established as the Sheraton Gateway Atlanta Airport. Southeastern is changing the date of the Public Information and Comment Forum to 2 p.m. on April 27, 2010. Southeastern is changing the address of the forum to Atlanta Airport Hilton, 1031 Virginia Avenue, Atlanta, GA 30354, Phone (404) 767-9000.

DATES: The Public Information and Comment Forum will be held in Atlanta, Georgia, at 2 p.m. on April 27, 2010.

ADDRESSES: The Public Information and Comment Forum will be at the Atlanta Airport Hilton, 1031 Virginia Avenue, Atlanta, GA 30354, Phone (404) 767-9000.

Dated: March 22, 2010.
Kenneth E. Legg,
Administrator.

[FR Doc. 2010-6527 Filed 3-23-10; 8:45 am]

BILLING CODE 6450-01-P